DEPARTMENT OF COMMERCE

National Oceanic and Atmospheric Administration

[I.D. 083005B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Committee, Controlled Access Committee, Joint Executive and Finance Committees, Advisory Panel Selection Committee, Scientific and Statistical Selection Committee, and a meeting of the full Council.

DATES: The meeting will be held on September 19, 2005 through September 23, 2005. See SUPPLEMENTARY INFORMATION for specific dates and times.

ADDRESSES: The meeting will be held at the Town and Country Inn, 2008 Savannah Highway, Charleston, SC 29407; telephone: (1-800) 334-6660 or (843) 571-1000, fax: (843) 766-9444.

Copies of documents are available from Kim Iverson, Public Information Officer, South Atlantic Fishery Management Council, One Southpark Circle, Suite 306, Charleston, SC 29407- 4699.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Snapper Grouper Committee Meeting: September 19, 2005, 1:30 p.m. until 5 p.m. and September 20, 2005, 8:30 a.m. until 5 p.m.

The Snapper Grouper Committee will meet to review the Snapper Grouper Regulatory Amendment document to finalize it for public hearings. The Regulatory Amendment addresses management measures for snowy grouper, golden tilefish, vermilion snapper, black sea bass, and red porgy. The Committee will also receive a report on the development of an evaluation team for review of the Oculina Experimental Closed Area and develop recommendations for Council consideration. The Committee will develop recommendations relative to addressing marine protected areas. In addition, the Committee will review issues relative to the draft of Amendment 13B to the Snapper Grouper Fishery Management Plan regarding mandates under the Sustainable Fisheries Act to address overfishing.

2. Controlled Access Committee Meeting: September 21, 2005, 8:30 a.m. until 12 noon

The Controlled Access Committee will discuss goals and objectives of a rights-based system in the South Atlantic, receive a presentation on “Who Owns America's Fisheries” by Dr. Seth Macinko, and review controlled access issues in the draft Senate Bill of the Magnuson-Stevens Fishery Conservation and Management Act (Magnuson-Stevens Act) reauthorization.

3. Joint Executive Committee and Finance Committee Meeting: September 21, 2005, 1:30 p.m. until 5 p.m.

The Committees will receive updates on current budget items, review the Council's 2006 Fishery Management Plan/Amendment/Framework timelines, discuss participation in the Southeastern Aquatic Resources Partnership, develop Council comments on the Senate Bill working draft for MSFCMA reauthorization and proposed modifications to National Standard 1, discuss the function and duties of the joint Council and National Marine Fisheries Service Fishery Management Plan Teams, review the NMFS Status of Stocks Report to Congress, receive a report on the Southeastern Data, Assessment, and Review (SEDAR) Steering Committee meeting and discuss the Council's current committee structure.

4. Advisory Panel Selection Committee Meeting: September 22, 2005, 8:30 a.m. until 10:30 a.m.(CLOSED SESSION)

The Advisory Panel Selection Committee will review advisory panel applications and develop recommendations for Council consideration.

5. Scientific and Statistical Committee (SSC) Meeting: September 22, 2005, 10:30 a.m. until 12 noon (CLOSED SESSION)

The Scientific and Statistical Committee will meet to discuss the role of the SSC relative to the SEDAR process. In addition, the Committee will review applications and develop recommendations for Council for appointing SSC members.

6. Council Session: September 22, 2005, 1:30 p.m. until 5:30 p.m. and September 23, 2005, 8:30 a.m. until 12 noon

From 1:30 p.m. until 2 p.m., the Council will call the meeting order, make introductions and roll call, adopt the meeting agenda, and approve earlier meeting minutes. The Council will also hold elections for Chairman and Vice-Chairman.

From 2 p.m. until 4 p.m., the Council will receive a presentation on new fishing regulations proposed for Atlantic tunas, sharks, swordfish, and billfish and provide comment.

From 4 p.m. until 4:30 p.m., the Council will receive a presentation on the Sustainable Seafood Initiative.

From 4:30 p.m. until 5:30 p.m., the Council will hear a report from the Snapper Grouper Committee, approve the Regulatory Amendment for public hearings, take other action as appropriate.

Council Session: September 23, 2005, 8:30 a.m. until 12 noon.

From 8:30 a.m. until 9 a.m., the Council will receive a briefing from NOAA General Counsel on litigation (CLOSED SESSION).

From 9 a.m. until 9:15 a.m., the Council will receive a report from the Controlled Access Committee and take action as appropriate.

From 9:15 a.m. until 9:30 a.m., the Council will receive a report from the Joint Executive/Finance Committee and take action as appropriate.

From 9:30 a.m. until 9:45 a.m., the Council will hear a report from the Advisory Panel Selection Committee and appoint advisory panel members.

From 9:45 a.m. until 10 a.m., the Council will hear a report from the Scientific and Statistical Selection Committee and take action as appropriate.

From 10 a.m. until 11:15 a.m., the Council will hear status reports from NOAA Fisheries' Southeast Regional Office and the Southeast Fishery Science Center.

From 11:15 a.m. until 12 noon, the Council will receive agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 15, 2005.

Dated: August 30, 2005.
Emily Menashes,
Acting Director, Office of Sustainable Fisheries, National Marine Fisheries Service.

[FR Doc. E5-4829 Filed 9-2-05; 8:45 am]

BILLING CODE 3510-22-S